SECURITIES AND EXCHANGE COMMISSION

[Release No. 34-44661; File No. 4-208]

Intermarket Trading System; Notice of Filing of the Seventeenth Amendment to the ITS Plan Relating to Regional Computer Interface, 30-Second Commitment Expiration, and the Principal Place of Business of the Boston Stock Exchange, Inc.

August 8, 2001.

Pursuant to section 11A of the Securities Exchange Act of 1934 (“Act”),¹ and Rule 11A3a3-2 thereunder,² notice is hereby given that on July 16, 2001, the Intermarket Trading System Operating Committee (“ITSOC”) submitted to the Securities and Exchange Commission (“Commission”) a proposed amendment (“Seventeenth Amendment”) to the restated ITS Plan.³ The purpose of the proposed amendment is to: (1) Recognize the NASD's use of the Regional Computer Interface (“RCI”);⁴ (2) provide for a six-month pilot program for the use of a 30-second commitment expiration; and (3) reflect the BSE's new principal place of business. The Commission is publishing this notice to solicit comment on the proposed amendment from interested persons.

¹ 15 U.S.C. 78k-1.

² 17 CFR 240.11Aa3-2.

³ The ITS is a National Market System (“NMS”) plan, which was designed to facilitate intermarket trading in exchange-listed equity securities based on current quotation information emanating from the linked markets. See Securities Exchange Act Release No. 19456 (January 27, 1983), 48 FR 4938 (February 3, 1983).

The ITS Participants include the American Stock Exchange LLC (“AMEX”), the Boston Stock Exchange, Inc. (“BSE”), the Chicago Board Options Exchange, Inc. (“CBOE”), the Chicago Stock Exchange, Inc. (“CHX”), the Cincinnati Stock Exchange, Inc. (“CSE”), the National Association of Securities Dealers, Inc. (“NASD”), the New York Stock Exchange, Inc. (“NYSE”), the Pacific Exchange, Inc. (“PCX”), and the Philadelphia Stock Exchange, Inc. (“PHLX”) (“Participants”).

⁴ “RCI” is defined in Section 1 (34A) of the ITS Plan as the “automated linkage between the System and, and collectively, the Regional Switches and the AMEX [Display Book Manager] DBM that, when implemented, will enable members located on the floors of the Amex, BSE, the CHX, the PSE, and the PHLX to participate in the Applications.”

I. Description of the Amendment

The proposed amendment recognizes the NASD's use of the RCI by deleting references to the “ITS/CAES Interface” ⁵ and incorporating NASD members registered as ITS/CAES Market Makers as part of the definition of “RCI” in section 1(34A) of the ITS Plan, thus enabling the NASD to use the communications network that links the exchange markets electronically to facilitate trades among Participant markets.

⁵ See ITS Plan, Section 1(15) (defining “ITS/CAES Interface”); Section 10(e)(i) (discussing “Standard Automated Interfaces”); Section 11(a)(iii)(B) (discussing the “New Participant's Share of Development Costs”); and Section 11(a)(iii)(E) (regarding “CAES Interface Costs”).

In addition, the proposed amendment provides for a six-month pilot program for the use of a 30-second commitment expiration. Currently, the ITS Plan provides that the sender of the commitment may designate a time period during which the commitment shall be irrevocable following acceptance by the System.⁶ If the commitment is not accepted or rejected during the applicable time period (which commences to run upon the time stamping of the commitment when it is accepted by the System), the commitment is automatically canceled by the System at the end of the applicable time period.⁷ The two time period options currently available are known as “T-1,” which has a duration of one minute, and “T-2,” which has a duration of two minutes.⁸ The proposed amendment would allow for a third time period option known as “T-30S,” which would have a duration of 30 seconds. This option would commence on the date of Commission approval of this Seventeenth Amendment, or immediately following installation of the T-30S functionality by the Securities Industry Automation Corporation (“SIAC”), whichever is later, and would remain available until the last trading day of the sixth full calendar month following such commencement.⁹

⁶ See ITS Plan, Section 6(b)(i) (discussing “Commitment Information, Expiration”).

⁷ See ITS Plan, Section 6(b)(iv) (discussing “Commitment Validation, Routing”).

⁸ See note 5, supra.

⁹ The ITSOC also proposed to either continue the T-30S option for one or more additional six-month periods or to make the T-30S option permanent. The ITSOC must determine such option by a unanimous vote of the ITSOC (with all representatives voting). Prior to any such vote, the ITSOC shall review the functioning of the option in terms of, but not limited to, the percentage of T-30S commitments that are automatically cancelled (expired) in the System overall and by each Participant Market.

Lastly the proposed amendment amends the ITS Plan to reflect the BSE's new principal place of business. The BSE's principal place of business is 100 Franklin Street, Boston, Massachusetts 02110.

II. Solicitation of Comments

Interested persons are invited to submit written data, views and arguments concerning the foregoing, including whether the proposed Plan amendment is consistent with the Act. Persons making written submissions should file six copies thereof with the Secretary, Securities and Exchange Commission, 450 Fifth Street, NW., Washington, DC 20549-0609. Copies of the submission, all subsequent amendments, all written statements with respect to the proposed Plan amendment that are filed with the Commission, and all written commissions relating to the proposed Plan amendment between the Commission and any person, other than those that may be withheld from the public in accordance with the provisions of 5 U.S.C. 552, will be available for inspection and copying in the Commission's Public Reference Room. Copies of such proposed Plan Amendment will also be available for inspection and copying at the principal office of the ITS. All submissions should refer to File No. 4-208 and should be submitted by September 5, 2001.

For the Commission, by the Division of Market Regulation, pursuant to delegated authority.¹⁰
¹⁰ 17 CFR 200.30-3(a)(29).
Margaret H. McFarland,
Deputy Secretary.

[FR Doc. 01-20500 Filed 8-14-01; 8:45 am]

BILLING CODE 8010-01-M